DEPARTMENT OF DEFENSE

Department of the Army

Public Meeting With Interested Parties on Improving Army's Ability To Quickly Acquire Materiel and Services To Meet Unforseen Operational Requirements

AGENCY: Department of the Army, DoD.

ACTION: Notice of open meeting.

SUMMARY: This meeting involves surge planning and contracting issues with Army in support of unforeseen operational requirements. The Assistant Secretary of the Army for Acquisition, Logistics and Technology would like to hear the views of interested parties regarding the improvement of Army's ability to acquire needed but unforeseen operational requirements for producing additional weapon systems, parts, and services. Possible issues include procedures for establishing the meaningful contract options or other commitments without the need to have a legal reservation of funds. Other issues include an inability to forecast these requirements with precision, buying from nontraditional suppliers, buying nonstandard items and other issues submitted by attendees. Subsequent meetings may be held.

DATES: A public meeting will be conducted on December 7, 2004, beginning a 1 p.m. and continuing to 5 p.m., local time.

ADDRESSES: The location of the public meeting is Presidential Towers, Army Conference Room 11100, 11th Floor, located at 2511 Jefferson Davis Highway, Arlington, VA 22202.

FOR FURTHER INFORMATION CONTACT: Mr. Steven R. Linke, Steven.Linke@us.army.mil, or telephone (703) 604-7006; fax (703) 604-7717.

Brenda S. Bowen,
Army Federal Register Liaison Officer.

[FR Doc. 04-25392 Filed 11-15-04; 8:45 am]

BILLING CODE 3710-08-M